DEPARTMENT OF THE INTERIOR

Bureau of Land Management

[OR-030-1020-PH; G4-0288]

Notice of Call for Nominations for the John Day-Snake Resource Advisory Council (RAC)

AGENCY: Bureau of Land Management, Interior.

ACTION: Notice.

SUMMARY: The Bureau of Land Management (BLM) is requesting public nominations to fill the unexpired term of two positions on the John Day-Snake-RAC. The RAC provides advice and recommendations to BLM on land use planning and management of the public lands in northeast Oregon, Southeast Washington, and that portion of Idaho within the Hells Canyon National Recreation Area. BLM will consider public nominations until December 20, 2004.

DATES: Send all nominations to the appropriate BLM State Office by no later than December 20, 2004.

ADDRESSES: See SUPPLEMENTARY INFORMATION for the location to send your nominations.

FOR FURTHER INFORMATION CONTACT: Pam Robbins, U.S. Department of the Interior, Bureau of Land Management, Oregon State Office, 333 SW. First Avenue OR-912, Portland, OR 97204-3420; 503-808-6306.

SUPPLEMENTARY INFORMATION: The Federal Land Policy and Management Act (FLPMA) (43 U.S.C. 1730) directs the Secretary of the Interior to involve the public in planning and issues related to management of lands administered by BLM. Section 309 of FLPMA directs the Secretary to select 10 to 15 member citizen-based advisory councils that are consistent with the requirements of Federal Advisory Committee Act (FACA). Members serve without monetary compensation, but will be reimbursed for travel and per diem expenses at current rates for Government employees. As required by the FACA, RAC membership must be balanced and representative of the various interests concerned with the management of the public lands. The rules governing RACs are found at 43 CFR 1784.b. The unexpired terms to be filled are category three—Indian tribes within or adjacent to the RAC, and employee of a State agency responsible for management of natural resources. The current term expiration for the tribal representative is September 19, 2007; for the State employee, it is September 19, 2006. Individuals may nominate themselves or others to serve on the RAC. Nominees must be residents of Oregon, Washington, or Idaho, the states in which the RAC has jurisdiction. BLM will evaluate nominees based on their education, training, and experience and their knowledge of the geographical area of the RAC. Nominees should demonstrate a commitment to collaborative resource decision-making.

The following must accompany all nominations:

—Letters of reference from represented interests or organizations,

—A completed background information nomination form,

—Any other information that speaks to the nominee's qualifications.

Nomination forms are available from Pam Robbins, P.O. Box 2965, 333 SW. First Avenue, Portland, OR 97208-2965. Completed applications should be sent to the same address. Internet users may download the form from: http://www.or.blm.gov/johndaysnake-RAC/form-nomination.pdf.

Dated: September 23, 2004.
James G. Kenna,
Associate State Director, Oregon/Washington BLM.

[FR Doc. 04-24668 Filed 11-3-04; 8:45 am]

BILLING CODE 4310-33-P